INTERNATIONAL TRADE COMMISSION

[Inv. No. 337-TA-755]

Certain Starter Motors and Alternators; Notice of Investigation

AGENCY: U.S. International Trade Commission.

ACTION: Institution of investigation pursuant to 19 U.S.C. 1337.

SUMMARY: Notice is hereby given that a complaint was filed with the U.S. International Trade Commission on December 9, 2010, under section 337 of the Tariff Act of 1930, as amended, 19 U.S.C. 1337, on behalf of Remy International, Inc. of Pendleton, Indiana. A letter supplementing certain exhibits to the complaint was filed on December 30, 2010. An amended complaint was filed on January 3, 2011 on behalf of Remy International, Inc. and Remy Technologies, LLC, both of Pendleton, Indiana. The amended complaint alleges violations of section 337 based upon the importation into the United States, the sale for importation, and the sale within the United States after importation of certain starter motors and alternators by reason of infringement of certain claims of U.S. Patent No. 5,105,114 (“the `114 patent”); U.S. Patent No. 5,252,878 (“the `878 patent”); U.S. Patent No. 5,268,605 (“the `605 patent”); U.S. Patent No. 5,295,404 (“the `404 patent”); U.S. Patent No. 5,307,700 (“the `700 patent”); U.S. Patent No. 5,315,195 (“the `195 patent”); and U.S. Patent No. 5,453,648 (“the `648 patent). The amended complaint further alleges that an industry in the United States exists as required by subsection (a)(2) of section 337.

The complainants request that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Anne Goalwin, Esq., Office of Unfair Import Investigations, U.S. International Trade Commission, telephone (202) 205-2574.

Authority: The authority for institution of this investigation is contained in section 337 of the Tariff Act of 1930, as amended, and in section 210.10 of the Commission's Rules of Practice and Procedure, 19 CFR 210.10 (2010).

Scope of Investigation: Having considered the amended complaint, the U.S. International Trade Commission, on January 12, 2011, ordered that—

(1) Pursuant to subsection (b) of section 337 of the Tariff Act of 1930, as amended, an investigation be instituted to determine whether there is a violation of subsection (a)(1)(B) of section 337 in the importation into the United States, the sale for importation, or the sale within the United States after importation of certain starter motors and alternators that infringe one or more of claims 1-4 of the `114 patent; claims 1-3 of the `878 patent; claims 1-5 of the `605 patent; claims 1-4 of the `404 patent; claims 1-6 of the `700 patent; claims 1-6 of the `195 patent; and claims 1-12 of the `648 patent, and whether an industry in the United States exists as required by subsection (a)(2) of section 337;

(2) For the purpose of the investigation so instituted, the following are hereby named as parties upon which this notice of investigation shall be served:

(a) The complainants are:

Remy International, Inc., 600 Corporation Drive, Pendleton, IN 46064.

Remy Technologies, L.L.C., 600 Corporation Drive, Pendleton, IN 46064.

(b) The respondents are the following entities alleged to be in violation of section 337, and are the parties upon which the amended complaint is to be served:

Wetherill Associates, Inc. d/b/a WAIGlobal, 4491 S. State Road 7, Suite 210, Fort Lauderdale, FL 33314.

Linhai Yongci, Liangshui Foreign Investment Zone, Linhai City, Zhenjiang 317000, China.

Metric Sales & Engineering, 1622 Willow Road, Suite 205, Northfield, IL 60093.

Wan Li Industrial Developement, Inc., 1845 Belcroft Avenue, South El Monte, CA 91733.

Yongkang Boyu Auto Motor Company, Haers Road #5, Hardware Science and Technology Industrial Park, Yongkang, Zhenjiang 321300, China.

Wuxi Susan Auto Parts Company, 7 Dajishan Road, South Side, Wuxi City, Changzhou 214064, China.

American Automotive Parts, Inc., 7007 N. Austin Avenue, Niles, IL 60714.

Motorcar Parts of America, Inc., 2929 California Street, Torrance, CA 90503.

(c) The Commission investigative attorney, party to this investigation, is Anne Goalwin, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: January 13, 2011.
Marilyn R. Abbott,
Secretary to the Commission.

[FR Doc. 2011-1002 Filed 1-18-11; 8:45 am]

BILLING CODE 7020-02-P